DEPARTMENT OF COMMERCE

National Oceanic and Atmospheric Administration

[I.D. 082102B]

North Pacific Fishery Management Council; Notice of Committee Meeting

AGENCY: National Marine Fisheries Service (NMFS), National Oceanic and Atmospheric Administration (NOAA), Commerce.

ACTION: Committee meeting.

SUMMARY: The North Pacific Fishery Management Council’s (Council) Pacific Northwest Crab Industry Advisory Committee (PNCIAC) to meet.

DATES: September 13, 2002.

ADDRESSES: NMFS/Alaska Fisheries Science Center, 7600 Sand Point Way NE, Building 9, Room A & B Seattle, WA 99115.

Council address: North Pacific Fishery Management Council, 605 W. 4th Ave., Suite 306, Anchorage, AK 99501-2252.

FOR FURTHER INFORMATION CONTACT: Council staff: 907-271-2809.

SUPPLEMENTARY INFORMATION: On Friday, September 13, 2002, the Committee will meet between 9 a.m.-3 p.m. in Seattle at the Alaska Fisheries Science Center. The Committee will review a report on newshell and skip-molt components of the Bering Sea opilio fishery, review status of stocks and guideline harvest levels, and receive a presentation on catchability of crabs in the surveys. The Committee may develop recommendations on these and other issues relating to crab fishery management.

Although non-emergency issues not contained in this agenda may come before the Committee for discussion, those issues may not be the subject of formal action during this meeting. Action will be restricted to those issues specifically listed in this notice and any issues arising after publication of this notice that require emergency action under section 305 (c) of the Magnuson-Stevens Act, provided the public has been notified of the Council’s intent to take final action to address the emergency.

Special Accommodations

This meeting is physically accessible to people with disabilities. Requests for sign language interpretation or other auxiliary aids should be directed to Gail Bendixen, 907-271-2809, at least 5 working days prior to the meeting date.

Dated: August 21, 2002.
Richard W. Surdi,
Acting Director, Office of Sustainable Fisheries, National Marine Fisheries Service.

[FR Doc. 02-21656 Filed 8-23-02; 8:45 am]

BILLING CODE 3510-22-S